DEPARTMENT OF JUSTICE

Notice of Lodging of Consent Decree Under the Clean Air Act

Under 28 CFR 50.7, notice is hereby given that on September 30, 2004, a proposed Consent Decree in United States v. Chevron Phillips Chemical Company LP, Civil Action No. H-04-3814 was lodged with the United States District Court for the Southern District of Texas.

In this action the United States sought injunctive relief and a civil penalty to address violations of Section 112(r) of the Act, 42 U.S.C. 7412(r), (prevention of accidental chemical releases); 40 CFR Part 68, Chemical Accident Prevention Provisions; and 40 CFR Part 60, New Source Performance Standards related to the Pasadena Plastics Complex, a chemical manufacturing facility owned and operated by Chevron Phillips Chemical Company LP (“Chevron Phillips”) in Pasadena, Texas.

Under the proposed Consent Decree, Chevron Phillips has agreed to pay a $1.8 million civil penalty. In addition, Chevron Phillips will perform two Supplemental Environmental Projects (“SEPs”) at a cost of at least $1.2 million. The first project requires Chevron Phillips to buy and arrange for the installation of a fuel cell to provide electricity for the operation of Moody Gardens, located in the Houston/Galveston non-attainment area. The second project requires Chevron Phillips to supply hazardous material equipment and training to the Pasadena Volunteer Fire Department. The settlement also requires Chevron Phillips to satisfy a number of work practice requirements designed to help reduce the chances of accidental releases of hazardous chemicals from the facility.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Chevron Phillips Chemical Company, D.J. Ref. No. 90-5-2-1-07840.

The Consent Decree may be examined during the public comment period on the following Department of Justice Web site: http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $11.25 (25 cents per page reproduction cost) payable to the U.S. Treasury.

Thomas A. Mariani, Jr.,
Assistant Section Chief, Environmental Enforcement Section, Environment and Natural Resources Division.

[FR Doc. 04-23098 Filed 10-13-04; 8:45 am]

BILLING CODE 4410-15-M